DEPARTMENT OF TRANSPORTATION

Federal Highway Administration

[Docket No. FHWA-2024-0012]

Agency Information Collection Activities: Notice of Request for Reinstatement of a Previously Approved Information Collection

AGENCY: Federal Highway Administration (FHWA), DOT.

ACTION: Notice of request for reinstatement of a previously approved information collection.

SUMMARY: The FHWA has forwarded the information collection request described in this notice to the Office of Management and Budget (OMB) to reinstate an information collection. We published a Federal Register Notice with a 60-day public comment period on this information collection on November 9, 2023. We are required to publish this notice in the Federal Register by the Paperwork Reduction Act of 1995.

DATES: Please submit comments by March 18, 2024.

ADDRESSES: You may submit comments identified by DOT Docket ID Number 0012 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Wendy McAbee, 202-366-5658, Office of Bridge and Structures, Federal Highway Administration, Department of Transportation, 1200 New Jersey Avenue SE, Washington, DC 20590, between 7:30 a.m. to 4:30 p.m., Monday through Friday, except Federal holidays.

SUPPLEMENTARY INFORMATION: A 60-day public comment period on this information collection was published in the Federal Register on November 9, 2023 at 88 FR 77416.

Title: Highway Bridge and National Bridge Inspection Programs (National Bridge Inspection Standards).

OMB Control: 2125-0501.

Background: This collection is necessary to meet legislative requirements of title 23 United States Code section 144, and the Code of Federal Regulations, title 23 Highways, part 650, subpart C—National Bridge Inspection Standards which require States, Federal agencies, and Tribal governments to: (1) perform, and report inventory data from, initial, routine, non-redundant steel tension member, underwater, damage, in-depth, and special inspections as appropriate for all highway bridges on public roads, and element level inspections for highway bridges on the National Highway System; (2) report costs associated with the replacement of highway bridges; and (3) report critical findings on highway bridges. The bridge replacement unit cost information that is provided to the FHWA is on an annual basis. The critical findings information is periodically provided to the FHWA. The bridge information is used for multiple purposes, including: (1) the determination of the condition of the Nation's bridges which is included in a biennial report to Congress on the Status of the Nation's Bridges; (2) for various additional reports to Congress on Bridge Safety; (3) the data source for executing various sections of the Federal-aid program which involve highway bridges; (4) the data source for assessing the bridge penalty provisions of title 23 United States Code section 119; (5) the data source for the evaluation of bridge performance measures established in title 23 United States Code section 150; (6) for conducting oversight of the National Bridge Inspection Program at the State, Federal agency, and Tribal government level; and (7) for strategic national defense needs.

Respondents: 52 State highway agencies including the District of Columbia and Puerto Rico, Federal agencies, Tribal governments, and transportation departments of United States Territories of U.S Virgin Islands and Guam. The number of inspections per respondent varies in accordance with the National Bridge Inspection Standards.

Estimated Average Burden per Response: The estimated average burden for each bridge inspection is 8 hours. The estimated average burden for each element level inspection is 25 minutes. The estimated average burden for each cost collection report is 16 hours. The estimated average burden for reporting critical findings is 40 hours.

Estimated Total Annual Burden Hours: The annual burden hours associated with this renewal is 2,773,334 hours. This estimated figure is based on 342,475 annual instances for bridge inspections multiplied by 8 hours (2,739,800 hours); plus 73,492 annual element inspections multiplied by 25 minutes (30,622 hours); plus 16 hours for each unit cost report multiplied by 52 reports (832 hours); plus 40 hours for follow up on critical findings multiplied by 52 respondents (2,080 hours) for a combined annual burden of 2,773,334 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: February 12, 2024.
Jazmyne Lewis,
Information Collection Officer.

[FR Doc. 2024-03147 Filed 2-14-24; 8:45 am]

BILLING CODE 4910-22-P